COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) and service(s) to the Procurement List that will be furnished by nonprofit agencies employing persons who are blind or have other severe disabilities, and deletes product(s) previously furnished by such agencies.

DATES: Comments must be received on or before: January 03, 2021.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities. The following product(s) and service(s) are proposed for addition to the Procurement List for production by the nonprofit agencies listed:

Product(s)

NSN(s)—Product Name(s):

890008303S—Vegetarian Burrito With Chips and Drink

890008311S—Cold Vegetarian Sandwich With Chips and Drink

890008312S—Vegetarian Cheeseburger Meal With Chips and Drink

890008300S—Breakfast Burrito and Drink

890008301S—Cold Sandwich With Chips and Drink

890008302S—Dinner Burrito With Fruit Cup and Drink

890008304S—Cheeseburger Meal With Chips and Drink

890008306S—Chicken Teriyaki Bowl and Drink

890008307S—Snack

890008305S—Chicken Salad With Chip and Drink

890008309S—Milk, 8 oz. box

890008308S—Water, 16.9 oz. bottle

890008310S—Juice, 6 oz. box

Designated Source of Supply: ARC-Imperial Valley, El Centro, CA

Contracting Activity: U.S. CUSTOMS AND BORDER PROTECTION, BORDER ENFORCEMENT CTR DIV

Service(s)

Service Type: Facility Support Services

Mandatory for: National Park Service, National Capital Area, Multiple Locations, Washington, DC

Designated Source of Supply: Portco, Inc., Portsmouth, VA

Contracting Activity: NATIONAL PARK SERVICE, NCR REGIONAL CONTRACTING (30000)

Deletions

The following product(s) are proposed for deletion from the Procurement List:

Product(s)

NSN(s)—Product Name(s):

5340-00-479-2949—Strap, Webbing, 57″ x 1″

5340-00-543-3271—Strap, Webbing, 9-3/4″ x 1″

5340-00-753-3740—Strap, Webbing, 8″ x 1″

Designated Source of Supply: The Charles Lea Center, Inc., Spartanburg, SC

Contracting Activity: DLA TROOP SUPPORT, PHILADELPHIA, PA

Michael R. Jurkowski,
Deputy Director, Business & PL Operations.

[FR Doc. 2020-26736 Filed 12-3-20; 8:45 am]

BILLING CODE 6353-01-P